ENVIRONMENTAL PROTECTION AGENCY

[EPA-HQ-OAR-2007-1138; FRL-9913-09-OAR]

Agency Information Collection Activities; Proposed Collection; Comment Request; Reporting and Recordkeeping Requirements for Importation of Nonroad Engines and Recreational Vehicles

AGENCY: Environmental Protection Agency (EPA).

ACTION: Notice.

SUMMARY: In compliance with the Paperwork Reduction Act (PRA) (44 U.S.C. 3501 et seq.), this document announces that the Environmental Protection Agency (EPA) is planning to submit a request to renew an existing approved Information Collection Request (ICR) to the Office of Management and Budget (OMB). This ICR is scheduled to expire on December 31, 2014. Before submitting the ICR to OMB for review and approval, EPA is soliciting comments on specific aspects of the proposed information collection as described below.

DATES: Comments must be submitted on or before September 2, 2014.

ADDRESSES: Submit your comments referencing Docket ID No. EPA-HQ-OAR-2007-1138 online using www.regulations.gov (our preferred method), by email to pugliese.holly@epa.gov or by mail to: EPA Docket Center, Environmental Protection Agency, Mailcode 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Holly Pugliese, Compliance Division, Office of Transportation and Air Quality, Environmental Protection Agency, 2000 Traverwood, Ann Arbor, Michigan, 48105; telephone number: 734-214-4288; fax number: 734-214-4869; email address: pugliese.holly@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This ICR covers the burden associated with EPA Form 3520-21, a declaration form for importers of nonroad vehicles or engines into the United States, which identifies the regulated category of engine or vehicle and the regulatory provisions under which the importation is taking place. In addition, this ICR covers the possible burden of EPA Form 3520-8 if it comes to be used to request final importation clearance for Independent Commercial Importers of nonroad Compression Ignition engines, who would have to bring the engines into compliance and provide test results, comparable to the use of Form 3520-8 for on-road vehicles and engines as covered by OMB 2060-0095. The information is used by Agency enforcement personnel to verify that all nonroad vehicles and engines subject to Federal emission requirements have been declared upon entry or that the category of exclusion or exemption from emissions requirements has been identified in the declaration. The information is also used to identify and prosecute violators of the regulations and to monitor the program in achieving the objectives of the regulations. The Forms are required before making customs entry; see 19 CFR 12.73 and 12.74.

Form Number: 3520-21.

Frequency of response: Once per entry. (One form per shipment may be used.)

Respondents/affected entities: Information collected is from individual importers, or companies who import and manufacture nonroad engines and recreational vehicles.

Respondent's obligation to respond: Required for any importer to legally import nonroad vehicles or engines into the U.S.

Estimated number of respondents: 12,000.

Total estimated burden: 6029 hours (per year). Burden is defined at 5 CFR 1320.03(b).

Total estimated cost: $410,178.38 (per year), includes $38,002 annualized capital or operation & maintenance costs.

Changes in Estimates: This is an increase in $110,896.39 the total estimated respondent burden compared with the ICR currently approved by OMB. The program has remained consistent over time and the increase in burden is primarily due to costs of labor.

Dated: June 19, 2014.
Byron J. Bunker,
Director, Compliance Division, Office of Transportation and Air Quality.

[FR Doc. 2014-15464 Filed 6-30-14; 8:45 am]

BILLING CODE 6560-50-P